FEDERAL COMMUNICATIONS COMMISSION

Notice of Public Information Collection(s) Being Submitted to OMB for Review and Approval

January 31, 2000.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 13, 2000. If you anticipate that you will be submitting comments, but find it difficult to do so within the period of time allowed by this notice, you should advise the contact listed below as soon as possible.

ADDRESSES: Direct all comments to Les Smith, Federal Communications Commission, Room 1-A804, 445 12th Street, SW, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0732.

Title: Consumer Education Concerning Wireless 911.

Form Number: N/A.

Type of Review: Extension of a currently approved collection.

Respondents: Business or other for-profit entities; Individuals or households.

Number of Respondents: 2,500.

Estimate Time Per Response: 0.5 to 1.0 hours.

Frequency of Response: On occasion reporting requirement.

Total Annual Burden: 1,563 hours.

Total Annual Costs: $375,000.

Needs and Uses: This information will be used by consumers to determine rationally and accurately the scope of their options in accessing 911 services from mobile handsets.

OMB Control Number: 3060-0454.

Title: Regulation of International Accounting Rates.

Form Number: N/A.

Type of Review: Extension of currently approved collection.

Respondents: Businesses or other for-profit entities.

Number of Respondents: 20.

Estimated Time Per Response: 1 hour (38 responses/yr.).

Frequency of Response: On occasion reporting requirement; Third party disclosure.

Total Annual Burden: 760 hours.

Total Annual Cost: $5,700.

Needs and Uses: The information will be used by the FCC staff to monitor the international accounting rates of such carriers to ensure consistency with Commission policies and the public interest. The information also enables the Commission to preclude one-way bypass and to safeguard its international settlements policy. Carriers also use the information to monitor accounting and settlement rates for international telecommunications.

OMB Control Number: 3060-0901.

Title: Reports of Common Carriers and Affiliates.

Form Number: N/A.

Type of Review: Revision of currently approved collection.

Respondents: Businesses or other for-profit entities; Not-for-profit Institutions.

Number of Respondents: 20.

Estimated Time Per Response: 5 hours (20-212 responses/yr.).

Frequency of Response: On occasion reporting requirement.

Total Annual Burden: 5,900 hours.

Total Annual Cost: None.

Needs and Uses: This information will be used by the FCC staff to monitor the operating agreements of U.S. carriers and their foreign correspondents that possess market power, and, in particular, to monitor the international accounting rates of such carriers to ensure consistency with Commission policies and the public interest. The information also enables the Commission to preclude one-way by-pass and safeguard its international settlements policy.

Federal Communications Commission.
Magalie Roman Salas,
Secretary.

[FR Doc. 00-3007 Filed 2-9-00; 8:45 am]

BILLING CODE 6712-01-P